DEFENSE NUCLEAR FACILITIES SAFETY BOARD

Sunshine Act Meeting Postponed

AGENCY: Defense Nuclear Facilities Safety Board.

ACTION: Notice of Public Meeting Postponement.

SUMMARY: The Defense Nuclear Facilities Safety Board (Board) published a document in the Federal Register of November 5, 2008, (73 FR 65838), as corrected, concerning notice of a public hearing and meeting on December 5, 2008, with regard to the Department of Energy's (DOE) and National Nuclear Security Administration's incorporation of safety into the design and construction of new DOE defense nuclear facilities and into major modification of existing facilities. That public hearing and meeting has been postponed. The Board intends to reschedule the hearing and meeting and will publish a notice of the rescheduled date in the Federal Register when that date has been determined.

FOR FURTHER INFORMATION CONTACT: Brian Grosner, General Manager, Defense Nuclear Facilities Safety Board, 625 Indiana Avenue, NW., Suite 700, Washington, DC 20004-2901, (800) 788-4016. This is a toll-free number.

Dated: November 12, 2008.
A. J. Eggenberger,
Chairman.

[FR Doc. E8-27300 Filed 11-13-08; 11:15 am]

BILLING CODE 3670-01-P